DEPARTMENT OF DEFENSE

Department of the Army

Armed Forces Epidemiological Board: Meeting

AGENCY: Department of the Army; DoD.

ACTION: Notice of partially-closed meeting.

SUMMARY: In accordance with section 10(a)(2) of Public Law 92-463, The Federal Advisory Committee Act, announcement is made of the following meeting:

Name of Committee: Armed Forces Epidemiological Board (AFEB).

Dates: September 21, 2004 (partially-closed meeting); September 22, 2004 (open meeting).

Times: 7:30 a.m.-5:10 p.m. (September 21, 2004); 7:30 a.m.-4:30 p.m. (September 22, 2004).

Location: St. Anthony Hotel, September 21 from 7:30 a.m.-12:15 p.m. and Brooks Air Force Base, 2602 West Gate Road, San Antonio, TX 78235-5252 from 12:45-5:30 p.m., St. Anthony Hotel, 300 East Travis Street, San Antonio, TX 78205 from 7 a.m.-4:30 p.m.

Agenda: The purpose of the meeting is to address pending and new Board issues, provide briefings for Board members on topics related to ongoing and new Board issues, conduct subcommittee meetings, and conduct an executive working session.

FOR FURTHER INFORMATION CONTACT: Colonel Roger Gibson, Executive Secretary, Armed Forces Epidemiological Board, Skyline Six, 5109 Leesburg Pike, Room 682, Falls Church, VA 22041-3258, (703) 681-8012/3.

SUPPLEMENTARY INFORMATION: In the interest of national security, and in accordance with 5, U.S.C. 552b(c)(1), the afternoon session on September 21, 2004 may be closed to the public. In addition, any classified portions of the meeting minutes may be withheld from public disclosure in accordance with 5 U.S.C. 552b(f)(2). The morning session on September 21, 2004 and the entire session on September 22, 2004 will be open to the public. Open sessions of the meeting will be limited by space accommodations. Any interested person may attend, appear before or file statements with the committee at the time and in the manner permitted by the committee.

Brenda S. Bowen,
Army Federal Register Liaison Officer.

[FR Doc. 04-19824 Filed 8-30-04; 8:45 am]

BILLING CODE 3710-08-M